DEPARTMENT OF HEALTH AND HUMAN SERVICES

Centers for Disease Control and Prevention

Board of Scientific Counselors, National Center for Injury Prevention and Control, (BSC, NCIPC); Amended Notice of Meeting

Notice is hereby given of a change in the meeting of the Board of Scientific Counselors, National Center for Injury Prevention and Control, (BSC, NCIPC); July 22, 2020, from 10:00 a.m. to 01:00 p.m., EDT (OPEN) and July 22, 2020, from 01:45 p.m. to 04:15 p.m., EDT (CLOSED), Teleconference 1-800-369-3110; Participant Code 7563795, which was published in the Federal Register on May 20, 2020, Volume 85, Number 98, pages 30709-30710.

The meeting is being amended to extend the oral public comment period during the open session, change the time of the closed session, and request written comments by email submission; and should read as follows:

SUMMARY: In accordance with the Federal Advisory Committee Act, the CDC announces the following meeting for the Board of Scientific Counselors, National Center for Injury Prevention and Control (BSC, NCIPC). This meeting is partially open and partially closed to the public. The open session is limited only by the ports available. There will be 2,000 telephone ports available. There will also be 55 minutes allotted for oral public comments at the end of the open session from 12:20 p.m. to 1:15 p.m., EDT on July 22, 2020. In addition, written comments may also be submitted for the meeting record. Written comments should be emailed to NCIPCBSC@cdc.gov and will be accepted until July 28, 2020, 5:00 p.m., EDT.

The public is encouraged to register to participate by telephone and/or provide oral public comment using the registration form available at the link provided: https://www.surveymonkey.com/r/NVV9XM2.

Individuals registered to provide oral public comment will be called upon to speak based on the order of registration. After persons who have registered have spoken, any remaining time in the oral public comment period will be used for members of the public who have not registered to speak but wish to offer comment. Individuals making oral public comment during the meeting will have a 2-minute speaking limit to allow for as many comments as possible.

DATES: The meeting will be held on July 22, 2020, 10:00 a.m. to 1:15 p.m., EDT (OPEN) and July 22, 2020, 2:00 p.m. to 4:30 p.m., EDT (CLOSED).

FOR FURTHER INFORMATION CONTACT: Gwendolyn H. Cattledge, Ph.D., M.S.E.H., Deputy Associate Director for Science, NCIPC, CDC, 4770 Buford Highway, NE, Mailstop S106-9, Atlanta, GA 30341, Telephone (770) 488-3953, Email address: NCIPCBSC@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-14447 Filed 7-2-20; 8:45 am]

BILLING CODE 4163-18-P